DEPARTMENT OF JUSTICE

Antitrust Division

Notice Pursuant to the National Cooperative Research and Production Act of 1993—Project Management Institute

Notice is hereby given that, on June 14, 2006, pursuant to section 6(a) of the National Cooperative Research and Production Act of 1993, 15 U.S.C. 4301 et seq. (“the Act”), Project Management Institute (“PMI”) has filed written notifications simultaneously with the Attorney General and the Federal Trade Commission disclosing (1) the name and principal place of business of the standards development organization, and (2) the nature and scope of its standards development activities. The notifications were filed for the purpose of invoking the Act's provisions limiting the recovery of antitrust plaintiffs to actual damages under specified circumstances.

Pursuant to Section 6(b) of the Act, the name and principal place of business of the standards development organization is: Project Management Institute, Newtown Square, PA. The nature and scope of PMI's standards development activities are to develop standards for the project management profession that are valued by PMI members, the marketplace and other stakeholders. More details regarding PMI's standards development activities can be found at http://www.pmi.org.

Dorothy B. Fountain,
Deputy Director of Operations Antitrust Division.

[FR Doc. 06-6569 Filed 7-28-06; 8:45 am]

BILLING CODE 4410-11-M